DEPARTMENT OF JUSTICE

Notice of Lodging of Modification of Consent Decree Under the Clean Water Act

Notice is hereby given that on August 15, 2007, a proposed Modification of Consent Decree (“Modification”) in United States of America v. Puerto Rico Aqueduct and Sewer Authority, The Commonwealth of Puerto Rico and Compania de Aguas de Puerto Rico, Inc.,Civil Action No. 01-1709 (JAF) was lodged with the United States Court for the District of Puerto Rico. The Consent Decree requires the Puerto Rico Aqueduct and Sewer Authority (“PRASA”) to, among other things, develop and implement a system-wide operation and maintenance plan (“OMP”) for all pump station facilities in Puerto Rico owned or operated by PRASA. The Consent Decree requires PRASA to draft and implement this OMP in accordance with a schedule set forth in ¶13. The proposed Modification seeks to replace the schedule set forth in ¶13 with a new schedule that includes deadlines for phasing in interim and final portions of the OMP, and requires complete implementation by December 31, 2010.

In addition, the Consent Decree requires PRASA to perform a “Supplemental Environmental Project” (“SEP”). The Modification affects the last activity/milestone of this SEP, listed in Appendix E of the Consent Decree, entitled “Work Plan Supplemental Environmental Project.” To date, PRASA has completed the first three milestones to be performed. In an effort to clarify PRASA's obligations in implementing the SEP, the parties have agreed to modify the last activity/milestone listed in Appendix E to provide for completion dates for the SEP projects.

The Department of Justice will receive for a period of thirty (30) days from the date of this publication comments relating to the Modification of Consent Decree. Comments should be addressed to the Assistant Attorney General, Environment and Natural Resources Division, and either e-mailed to pubcomment-ees.enrd@usdoj.gov or mailed to P.O. Box 7611, U.S. Department of Justice, Washington, DC 20044-7611, and should refer to United States v. PRASA, D.J. Ref. 90-5-1-1-06475/1.

The proposed Modification of Consent Decree may be examined at the Office of the United States Attorney, Federal Office Building, Rm. 10, Carlos E. Chardón Avenue, San Juan, Puerto Rico, and at U.S. EPA Region II, 290 Broadway, New York, New York. During the public comment period, the Modification of Consent Decree may also be examined on the following Department of Justice Web site, http://www.usdoj.gov/enrd/Consent_Decrees.html. A copy of the Modification of Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $1.50 (25 cents per page reproduction cost) payable to the U.S. Treasury or, if by e-mail or fax, forward a check in that amount to the Consent Decree Library at the stated address.

Ellen Mahan,
Deputy Chief, Environmental Enforcement Section, Environment and Natural Resource Division.

[FR Doc. 07-4251 Filed 8-29-07; 8:45 am]

BILLING CODE 4410-15-M